DEPARTMENT OF THE INTERIOR

Fish and Wildlife Service

[FWS-R2-ES-2012-N091; FXES11150200000F4-123-FF02ENEH00]

Draft Candidate Conservation Agreement With Assurances and Draft Environmental Assessment; Lesser Prairie Chicken, Oklahoma

AGENCY: Fish and Wildlife Service, Interior.

ACTION: Notice of availability; request for comment.

SUMMARY: The Oklahoma Department of Wildlife Conservation (ODWC) (Applicant) has applied for an enhancement of survival permit pursuant to Section 10(a)(1)(A) of the Endangered Species Act of 1973, as amended. The permit application includes a draft Candidate Conservation Agreement with Assurances (CCAA) between the U.S. Fish and Wildlife Service (Service) and ODWC for the lesser prairie-chicken (LEPC) in 10 Oklahoma counties. If the LEPC becomes listed in the future, the Enhancement of Survival permit will become effective, authorizing incidental take of LEPCs resulting from ongoing, otherwise lawful activities on enrolled lands. The draft CCAA and the draft Environmental Assessment are available for public review, and we seek public comment on the potential issuance of the above permits.

DATES: To ensure consideration, please send your written comments by August 24, 2012.

ADDRESSES: Persons wishing to review the application, the draft CCAA, the draft EA, or other related documents may obtain copies by written or telephone request to Field Supervisor, Oklahoma Ecological Services Field Office, 918-581-7458 (U.S. mail address below). Electronic copies of these documents are available for review on the Service Lesser Prairie Chicken Web site: http://www.fws.gov/southwest/es/LPC.html. The application and related documents will be available for public inspection, by appointment only, during normal business hours (8 a.m. to 4:30 p.m.) at the Oklahoma Ecological Services Field Office at the address below.

Comments concerning the application, the draft CCAA, the draft EA, or other related documents should be submitted in writing, by one of the following methods:

Email: lesserprairiechicken@fws.gov.

U.S. mail: Field Supervisor, Oklahoma Ecological Services Field Office, U.S. Fish and Wildlife Service, 9014 E. 21st St., Tulsa, OK 74129.

Please refer to Permit number TE72923A-0 when submitting comments. Please specify if comments are in reference to the draft CCAA, draft EA, or both.

FOR FURTHER INFORMATION CONTACT: Dixie Porter at the U.S. Fish and Wildlife Service, Oklahoma Ecological Services Field Office (address above).

SUPPLEMENTARY INFORMATION: With the assistance of the Service, the Applicant proposes to implement conservation measures for the LEPC by removing threats to the survival of these species and protecting their habitat. The proposed CCAA would be in effect for 25 years in Alfalfa, Beaver, Beckham, Cimarron, Custer, Dewey, Ellis, Harper, Roger Mills, Texas, Washita, Woods, and Woodward counties, Oklahoma. This area constitutes the CCAA's Planning Area, with Covered Areas being eligible non-federal lands within the Planning Area that provide suitable habitat for LEPC, or have the potential to provide suitable LEPC habitat with the implementation of conservation management practices. The CCAA is in addition to a larger conservation effort for the LEPC across its range within Texas, Oklahoma, Colorado, Kansas, and New Mexico. The CCAA has been developed in support of a section 10(a)(1)(A) enhancement of survival permit.

If approved, participants who are fully implementing the CCAA provisions of the enhancement of survival permit will be provided assurances that, should the LEPC be listed, the Service will not require them to provide additional land, water, or financial resources, nor will there be any further restrictions to their land, water, or financial resources than they committed to under the CCAA provisions (50 CFR 17.22(d) and 17.32(d)). Furthermore, if the LEPC is listed, participants would be provided incidental take authorization under the enhancement of survival permit, through certificates of inclusion, for the level of incidental take on the enrolled lands consistent with the activities under the CCAA provisions.

Background

The LEPC currently occurs in five states: Colorado, Kansas, New Mexico, Oklahoma, and Texas. The species inhabits rangelands dominated primarily by shinnery oak-bluestem and sand sagebrush-bluestem vegetation types. Major factors affecting the status of the LEPC are habitat fragmentation, overutilization by domestic livestock, oil and gas development, wind energy development, loss of native rangelands to cropland conversion, herbicide use, fire suppression, and drought. In 1998, the Service determined that listing of the LEPC was warranted but precluded because of other higher priority species. The December 2008, Candidate Notice of Review elevated the listing priority of the LEPC from an “8” to a “2” because the overall magnitude of threats to the LEPC were increasing and occurring throughout almost all of the currently occupied range.

The CCAA was initiated in order to facilitate conservation and restoration of the LEPC on private and State trust lands in Oklahoma. Expected conservation benefits for LEPC from implementation of the conservation measures in this CCAA will be recognized through improved population performance. Specifically, this will entail expected increases in adult and juvenile survivorship, nest success, and recruitment rates.

Furthermore, LEPC conservation will be enhanced by providing ESA regulatory assurances for participating property owners. There will be a measure of security for participating landowners in the knowledge that they will not incur additional land use restrictions if the species is listed under the ESA. The CCAA will provide benefits to LEPC by providing technical assistance to landowners in managing lesser prairie-chicken habitat. Through participation landowners may be assisted with securing potential state and federal funding for applying best management practices and conservation measures on their property to protect and enhance LEPC habitat, which should sustain and improve population performance (i.e., increased population numbers, increased survival, reduced mortality, expansion of occupied range). The Applicant has committed to guiding the implementation of the CCAA and requests issuance of the enhancement of survival permit in order to address the take prohibitions of section 9 of the Act should the species become listed in the future.

The draft CCAA and application for the enhancement of survival permit are not eligible for categorical exclusion under the National Environmental Policy Act (NEPA) of 1969. A draft Environmental Assessment has been prepared to further analyze the direct, indirect, and cumulative impacts of the CCAA on the quality of the human environment and other natural resources.

Public Availability of Comments

All comments we receive become part of the public record. Requests for copies of comments will be handled in accordance with the Freedom of Information Act, NEPA, and Service and Department of the Interior policies and procedures. Before including your address, phone number, email address, or other personal identifying information in your comment, you should be aware that your entire comment—including your personal identifying information—may be made publicly available at any time. While you can ask us to withhold your personal identifying information from public review, we cannot guarantee we will be able to do so.

Authority

We provide this notice under section 10(c) of the Act (16 U.S.C. 1531 et seq.) and its implementing regulations (50 CFR 17.22 and 17.32), and the National Environmental Policy Act (42 U.S.C. 4371 et seq.) and its implementing regulations (40 CFR 1506.6).

Benjamin N. Tuggle,
Regional Director, Region 2, Albuquerque, New Mexico.

[FR Doc. 2012-15385 Filed 6-22-12; 8:45 am]

BILLING CODE 4310-55-P